DEPARTMENT OF TRANSPORTATION

Federal Aviation Administration

Associate Administrator for Commercial Space Transportation; Notice of Availability of a Draft Environmental Assessment (EA) for Proposed Issuance of a Launch Operator License (LOL) or Launch Specific Licenses to Sea Launch Limited Partnership (SLLP)

AGENCY: Federal Aviation Administration (FAA), Associate Administrator for Commercial Space Transportation (AST).

ACTION: Notice of availability.

SUMMARY: In accordance with Executive Order 12114, the implementation of which is guided by the National Environmental Policy Act (NEPA), the FAA is initiating a 30-day public review and comment period of a Draft Environmental Assessment (EA) for proposed issuance of a launch operator license (LOL) or launch specific licenses to Sea Launch Limited Partnership (SLLP). If issued, the LOL would authorize SLLP to conduct, within certain launch parameters, up to eight commercial launches per year for five years without having to apply for a separate license for each launch. These launches would all be equatorial and would use azimuths between 82.6° and 97.4°, inclusive, originating from the SLLP Launch Platform (LP) at 0° latitude and 154° West (W) longitude, which is 425 kilometers (266 miles) from Kiritimati (Christmas Island) in the Kiribati Island Group in the Pacific Ocean. This Draft EA also addresses the proposed issuance of a launch-specific license for the launch of a Galaxy IIIC payload as well as other proposed launch specific licenses within the defined azimuth range and other specified launch parameters should the proposed LOL not be issued or be delayed. As a foreign entity in which a U.S. citizen has a controlling interest, in order to conduct commercial launch operations SLLP must obtain a license from FAA. Copies of the draft document are available through AST's Website (http://ast.faa.gov/) or by contacting Ms. Michon Washington at the address listed below.

DATES: The official comment period will begin with publication of this Notice of Availability. The comment period will end June 18, 2001.

FOR FURTHER INFORMATION CONTACT: Questions about the license applicant's proposed action and the Draft EA may be addressed to Ms. Michon Washington, Office of the Associate Administrator for Commercial Space Transportation, Space System Development Division, Suite 331/AST-100, 800 Independence Avenue SW., Washington, DC 20591; email michon.washington@faa.gov or phone (202) 267-9305. Written comments regarding the Draft EA should be sent to the same mailing address.

Additional Information: Under the license applicant's proposed action, the FAA would issue a license to SLLP to conduct (1) Up to eight launches per year over a five-year period, for a maximum of 40 launches; (2) from a launch site at 0° latitude and 154° W longitude; (3) within a range of launch azimuths from 82.6° to 97.4°, inclusive; (4) using a Zenit-3SL launch vehicle; and (4) transporting specified classes of payloads. The FAA is also evaluating the possibility of issuing a launch-specific license to SLLP for the launch of Galaxy IIIC, as well as other potential launch-specific licenses (not to exceed eight per year) as necessary should the proposed LOL not be issued or be delayed. The proposed launch-specific licenses would authorize SLLP to conduct specific launches (1) From a launch site at 0° latitude and 154° W longitude; (2) for a launch along an azimuth of 90.0°; (3) using a Zenit-3SL launch vehicle; and (4) transporting specified classes of payloads.

The FAA is considering six alternatives to the license applicant's proposed action. Three of these alternatives were briefly considered and dismissed as not fulfilling the purpose and need of the proposed action. They include: (1) Increasing the annual number of launches to a range of up to 12 per year; (2) using a range of azimuths from 70° to 110° (identified as possible azimuths for GSO launches); (3) launching along a range of azimuths between 82.6° and 97.4° but avoiding specific azimuths within this range that would overfly any nation's National Park or National Reserve. Two alternatives were carried forward and considered in detail in the Draft EA including: (1) Launching along a range of azimuths between 82.6° and 97.4° but avoiding any azimuth that would overfly any of the Oceanic Islands (Galapagos Islands, Cocos Island, and Malpelo Island) and (2) launching along a range of azimuths between 82.6° and 97.4° but avoiding any azimuths that overfly the Galapagos Islands. The No Action Alternative was also considered in detail. Under the No Action alternative, FAA would not issue a LOL to SLLP. SLLP would continue to prepare and submit launch-specific applications for individual licenses to launch up to six satellites per year, including appropriate environmental analyses and documentation to support launch-specific applications when required.

Potential impacts of the license applicant's proposed action were analyzed in the Draft EA. Potential environmental impacts of successful launch vehicle flight include impacts to the geology, oceanography, atmospheric processes, and biological communities within the overflight and stage and fairing deposition areas. Additionally, possible impacts to commercial activities in these areas were analyzed. Potential environmental impacts of three failed mission scenarios were also considered including: (1) Possible failure at the launch platform, (2) possible failure during Stage I and Stage II flight over open ocean, and (3) possible failure during Upper Stage flight over the ocean, Oceanic Islands, or South America. Finally, potential environmental impacts associated with the avoidance of the Oceanic Islands alternative and the avoidance of the Galapagos Islands alternative were also analyzed. The impacts of the No Action Alternative would be the same as those addressed in the FAA's Final Environmental Assessment for the Sea Launch Project (February 11, 1999).

Potential cumulative impacts of each phase of the launch operation associated with eight SLLP launches per year for five years, or a maximum of 40 proposed launches, over the broader range of azimuths of the license applicant's proposed action are also addressed in the Draft EA.

Based on the Draft EA, FAA will determine whether there are potentially significant impacts requiring preparation of an Environmental Impact Statement (EIS) or whether to issue a Final EA and Environmental Finding Document finding no significant impact.

Dated: May 11, 2001.
Herb Bachner,
Manager, Space Systems Development Division.

[FR Doc. 01-12390 Filed 5-16-01; 8:45 am]

BILLING CODE 4910-13-P